NATIONAL AERONAUTICS AND SPACE ADMINISTRATION

14 CFR Ch. V

Regulatory Agenda

AGENCY: National Aeronautics and Space Administration (NASA).

ACTION: Semiannual Regulatory Agenda.

SUMMARY: NASA's regulatory agenda describes those regulations being considered for development or amendment by NASA, the need and legal basis for the actions being considered, the name and telephone number of the knowledgeable official, whether a regulatory analysis is required, and the status of regulations previously reported.

ADDRESSES: Director, Office of the Executive Secretariat, NASA Headquarters, Washington, DC 20546.

FOR FURTHER INFORMATION CONTACT: Emily A. Pellegrino, (202) 257-1698.

SUPPLEMENTARY INFORMATION: OMB guidelines dated February 20, 2024, “Spring 2024 Unified Agenda of Federal Regulatory and Deregulatory Actions,” require a regulatory agenda of those regulations under development and review to be published in the Federal Register each spring and require a Regulatory Plan be published in the fall.

Dated: May 14, 2024.
Dennis Boccippio,
Supervisory Program Specialist, Office of the Executive Secretariat.

National Aeronautics and Space Administration—Proposed Rule Stage
Sequence No. | Title | Regulation Identifier No.
226 | NASA FAR Supplement: Implementation of a Branding Clause (Section 610 Review) | 2700-AE76

National Aeronautics and Space Administration—Final Rule Stage
Sequence No. | Title | Regulation Identifier No.
227 | Uniform Administrative Requirements, Cost Principles, and Audit Requirements for Federal Awards (Section 610 Review) | 2700-AE77

NATIONAL AERONAUTICS AND SPACE ADMINISTRATION (NASA)

Proposed Rule Stage

226. • NASA FAR Supplement: Implementation of a Branding Clause (Section 610 Review) [2700-AE76]

Legal Authority: Not Yet Determined

Abstract: The National Aeronautics and Space Administration (NASA) is proposing to amend is regulations at 48 CFR parts 1827 and 1852 to implement a new Branding Clause. This clause will provide instructions to the contractor on whether the contractor is authorized to use the NASA brand(s) or is prohibited from use. As a government agency, NASA will not promote or endorse or appear to promote or endorse a commercial product, service, or activity. Therefore, there are strict limits placed on the use of any of the NASA identities in advertisements. The clause will also include limitations on when contractors may release general information regarding their activities conducted within the scope of NASA contracts. The clause will provide legal protection for NASA and contractors by detailing the rights and responsibilities of each.

Public Outreach and Engagement Activities

NASA engages with the public on procurement-related regulations in several ways. The Agency meets with industry associations on a quarterly basis both for its own regulations and as a signatory to the Federal Acquisition Regulation (FAR). Industry associations that regularly participate in these discussions include members of the Council of Defense and Space Industry Associations (CODSIA). During these meetings, NASA often provides information on open FAR rules which are publicly accessible in the FAR Case Status Report at https://www.acq.osd.mil/dpap/dars/far_case_status.html, and may provide an update on companion NASA FAR Supplement (NFS) acquisition rules. Occasionally, while NFS or FAR rules are out for public comment, NASA will hold a public meeting to allow the public to provide feedback in an open forum. Information regarding a public meeting is typically provided within the rule document upon publication for comment.

NASA's Acquisition also conveys policy changes through publications on the following websites:

Procurement Class Deviations at https://www.hq.nasa.gov/office/procurement/regs/pcd.pdf.

Procurement Notices (https://www.hq.nasa.gov/office/procurement/regs/pn.pdf).

Procurement Information Circulars at https://www.hq.nasa.gov/office/procurement/regs/pic.pdf.

Timetable:

Action | Date | FR Cite
NPRM | 12/00/24

Regulatory Flexibility Analysis Required: No.

Agency Contact: Erica Jones, National Aeronautics and Space Administration, Washington, DC 20546, Phone: 256 544-6720, Email: erica.d.jones@nasa.gov.

RIN: 2700-AE76

NATIONAL AERONAUTICS AND SPACE ADMINISTRATION (NASA)

Final Rule Stage

227. • Uniform Administrative Requirements, Cost Principles, and Audit Requirements for Federal Awards (Section 610 Review) [2700-AE77]

Legal Authority: 51 U.S.C. 20113 (e); Pub. L. 97-258, 96 Stat. 1003; 31 U.S.C. 6301 et seq.

Abstract: The National Aeronautics and Space Administration (NASA) is proposing to amend its regulations at 2 CFR part 1800 to include updates and clarifications in administrative requirements, cost principles, and audit requirements for federal awards issued by NASA. The changes will reflect updated definitions, streamlined financial and program management standards, and refined property standards to align with current federal regulations and NASA-specific operational needs. Additionally, the proposed changes will include adjustments to noncompliance remedies and cost-sharing requirements, aiming to enhance the efficiency and accountability of managing grant and cooperative agreement awards given by NASA.

Timetable:

Action | Date | FR Cite
Direct Final Rule | 09/00/24

Regulatory Flexibility Analysis Required: No.

Agency Contact: Corey Walz, Office of the Chief Financial Officer, National Aeronautics and Space Administration, 300 E Street SW, Washington, DC 20546, Phone: 202 904-6581, Email: corey.a.walz@nasa.gov.

RIN: 2700-AE77

[FR Doc. 2024-16462 Filed 8-15-24; 8:45 am]

BILLING CODE 7510-13-P